FEDERAL MARITIME COMMISSION

Ocean Transportation Intermediary License Reissuances

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR Part 515.

License No. | Name/address | Date reissued
019355N | ABAD Air, Inc., 2685 Northwest 105th Avenue, Miami, FL 33178 | June 28, 2007.
018197N | Cargozone, Inc., 1490 Beachey Drive, Carson, CA 90746 | June 20, 2007.
003139F | GAC International Transport, Inc., 320 Cantor Avenue, Linden, NJ 07036 | February 4, 2005.
003989F | Time Definite Services, Inc., 2551 Allan Drive, Elk Grove Village, IL 60007 | June 22, 2007.

Sandra L. Kusumoto,
Director, Bureau of Certification and Licensing.

[FR Doc. E7-14911 Filed 7-31-07; 8:45 am]

BILLING CODE 6730-01-P